FEDERAL COMMUNICATIONS COMMISSION

47 CFR Part 1

[MD Docket No. 19-40; FCC 19-13]

Closure of FCC Lockbox 979094 Used To File Fees for Complaint Proceedings Handled by the Enforcement Bureau

AGENCY: Federal Communications Commission.

ACTION: Final rule.

SUMMARY: In this document, the Federal Communications Commission (FCC or Commission) adopts an Order that closes Lockbox 979094 and modifies the relevant rule provisions of filing and making fee payments in lieu of closing the lockbox.

DATES: Effective April 10, 2019.

FOR FURTHER INFORMATION CONTACT: Warren Firschein, Office of Managing Director at (202) 418-2653 or Roland Helvajian, Office of Managing Director at (202) 418-0444.

SUPPLEMENTARY INFORMATION: This is a summary of the Commission's Order, FCC 19-13, MD Docket No. 19-49, adopted on February 20, 2019 and released on February 25, 2019. The full text of this document is available for public inspection and copying during normal business hours in the FCC Reference Center (Room CY-A257), 445 12th Street SW, Washington, DC 20554, or by downloading the text from the Commission's website at https://www.fcc.gov/document/closure-enforcement-bureau-lockbox-979094.

I. Administrative Matters

A. Final Regulatory Flexibility Analysis

1. Section 603 of the Regulatory Flexibility Act, as amended, requires a regulatory flexibility analysis in notice and comment rulemaking proceedings. See 5 U.S.C. 603(a). As we are adopting these rules without notice and comment, no regulatory flexibility analysis is required.

B. Final Paperwork Reduction Act of 1995 Analysis

2. This document does not contain new or modified information collection requirements subject to the Paperwork Reduction Act of 1995 (PRA), Public Law 104-13. In addition, therefore, it does not contain any new or modified information collection burden for small business concerns with fewer than 25 employees, pursuant to the Small Business Paperwork Relief Act of 2002, Public Law 107-198, see 44 U.S.C. 3506(c)(4).

C. Congressional Review Act

3. The Commission will not send a copy of the Order pursuant to the Congressional Review Act, see 5 U.S.C. 801(a)(1)(A), because the adopted rules are rules of agency organization, procedure, or practice that do not “substantially affect the rights or obligations of non-agency parties. See 5 U.S.C. 804(3)(C).

II. Introduction

4. In the Order, we reduce expenditures by the Commission and modernize procedures by amending § 1.1106 of our rules, 47 CFR 1.1106, which sets forth the application fee for certain complaints delegated to the FCC's Enforcement Bureau (EB) and currently handled by its Market Disputes Resolution Division. The rule amendment reflects the closure of the mailing drop box (P.O. Box) ¹ used for such manual payment of filing fees for two types of EB complaints, section 208 formal complaints and section 224 pole attachment complaints. We discontinue the option of manual fee payments and instead require the use of an electronic payment for each complaint type. Consistent with this change, we also make conforming revisions to § 1.734 of the Commission's rules to account for the electronic fee payment requirements of formal complaint proceedings, as described more fully below.

¹ A P.O. Box used for the collection of fees is referred to as a “lockbox” in our rules and other Commission documents. The FCC collects application processing fees using a series of P.O. Boxes located at U.S. Bank in St. Louis, Missouri. See 47 CFR 1.1101-1.1109 (setting forth the fee schedule for each type of application remittable to the Commission along with the correct lockbox).

5. Section 1.1106 of the Commission's rules, 47 CFR 1.1106, provides a schedule of application fees for complaint proceedings handled by the EB. The rule had also directed filers that do not utilize the Commission's on-line filing and fee payment systems to send manual payments to P.O. Box 979094 at U.S. Bank in St. Louis, Missouri. In recent years, there have been a decreasing number of lockbox filers, and it now is rare that the Commission receives a lockbox payment.

6. The Commission has begun to reduce its reliance on P.O. Boxes for the collection of fees, instead encouraging the use of electronic payment systems for all application and regulatory fees and closing certain lockboxes. We find that electronic payment of fees for complaints processed by EB will reduce the agency's expenditures (including eliminating the annual fee for the bank's services) and the cost of manually processing each transaction, with little or no inconvenience to the Commission's regulatees, applicants, and the public.

7. As part of this effort, we are now closing P.O. Box 979094 and modifying the relevant rule provisions that require payment of fees via the closed P.O. Box. Our action here to close this lockbox and require electronic payments for any EB-related complaints has implications for existing Commission regulations other than section 1.1106. Thus, we also revise § 1.734 of the Commission's rules to account for the electronic fee payment requirements adopted in this Order. We note that in 2014, the Commission adopted rules requiring that, with the exception of confidential material, complaints should be submitted electronically via the agency's Electronic Comment Filing System (ECFS) after filers have paid the appropriate fee, and therefore this change does not impact the filing of the complaints themselves. The rule changes are contained in the Appendix of the Order. We make these changes without notice and comment because they are rules of agency organization, procedure, or practice exempt from the general notice-and-comment requirements of the Administrative Procedure Act, see 5 U.S.C. 553(b)(A).

8. Implementation. As a temporary transition measure, for 90 days after publication of this document in the Federal Register, U.S. Bank will continue to process payments to P.O. Box 979094. After that date, payments for any EB-related complaint proceeding must be made in accordance with the procedures set forth on the Commission's website, https://www.fcc.gov/licensing-databases/fees (Enforcement Bureau Fee Filing Guide). For now, such payments will be made through the Fee Filer Online System (Fee Filer), accessible at https://www.fcc.gov/licensing-databases/fees/fee-filer. As we assess and implement U.S. Treasury initiatives toward an all-electronic payment system, we may transition to other secure payment systems with appropriate public notice and guidance.

III. Ordering Clauses

9. Accordingly, it is ordered, that pursuant to sections 4(i), 4(j), 158, 208, and 224 of the Communications Act of 1934, as amended, 47 U.S.C. 154(i), 154(j), 158, 208, and 224, the Order is hereby adopted and the rules set forth in the Appendix of the Order are hereby amended effective April 10, 2019.

List of Subjects in 47 CFR Part 1

Administrative practice and procedure, Communications common carriers.

Federal Communications Commission.
Cecilia Sigmund,
Federal Register Liaison Officer.

Final Rules

For the reasons discussed in the preamble, the Federal Communications Commission amends 47 CFR part 1 as follows:

PART 1—PRACTICE AND PROCEDURE

1. The authority citation for part 1 is revised to read as follows:

Authority: 47 U.S.C. 151, 154(i), 154(j), 155, 157, 225, 227, 303(r), 309, 1403, 1404, 1451, and 1452.

2. Amend § 1.734 by revising paragraph (b) to read as follows:

§ 1.734 Fee remittance; electronic filing; copies; service; separate filings against multiple defendants.

* * * * *

(b) The complainant shall remit separately the correct fee electronically, in accordance with part 1, subpart G (see § 1.1106 of this chapter) and shall file an original copy of the complaint using the Commission's Electronic Comment Filing System. If a complaint is addressed against multiple defendants, the complainant shall pay a separate fee for each additional defendant.

* * * * *

3. Revise § 1.1106 to read as follows:

§ 1.1106 Schedule of charges for applications for enforcement services.

Remit payment for these services electronically using the Commission's electronic payment system in accordance with the procedures set forth on the Commission's website, www.fcc.gov/licensing-databases/fees.

[FR Doc. 2019-04257 Filed 3-8-19; 8:45 am]

BILLING CODE 6712-01-P